DEPARTMENT OF TRANSPORTATION

National Highway Traffic Safety Administration

[Docket No. NHTSA 2002-13014; Notice 2]

Dorel Juvenile Group; Denial of Application for Decision of Inconsequential Noncompliance

Dorel Juvenile Group [Cosco] (DJG), of Columbus, Indiana, failed to comply with S5.1.1(a) of Federal Motor Vehicle Safety Standard (FMVSS) No. 213, “Child Restraint Systems,” and filed an appropriate report pursuant to 49 CFR part 573, “Defect and Noncompliance Reports.” DJG has also applied to be exempted from the notification and remedy requirements of 49 U.S.C. Chapter 301—“Motor Vehicle Safety” on the basis that the noncompliance is inconsequential to motor vehicle safety.

Notice of receipt of the application was published on September 5, 2002, in the Federal Register (67 FR 56872), with a 30-day comment period. NHTSA received no comments.

The noncompliance reported by DJG is the separation of the tether strap and steel belt slot adjustment channel from the Cosco Alpha Omega child restraint system (CRS) seat shell produced from November 1, 2000 through January 10, 2001 (6 Models and 86,476 units).

FMVSS No. 213, S5.1.1 “Performance Requirements,” requires for dynamic performance that:

S5.1.1. Child restraint system integrity. When tested in accordance with S6.1 each child restraint system shall meet the requirements of paragraphs (a) * * * of this section.

(a) Exhibit no complete separation of any load bearing structural element * * *.

DJG supports its application for inconsequential noncompliance with the following, as summarized by NHTSA.

DJG does not think that tether separation during sled test constitutes a complete separation of a load bearing structural element. DJG believes that the regulatory history of S5.1.1 shows that the purpose of the requirement is to reduce the likelihood of injury during collapse or disintegration of the system; therefore, the cutting of the tether strap does not present a risk of collapse or disintegration. DJG states that the agency's compliance test data show tether separation of the Alpha Omega CRS under dynamic loading provides significantly improved results compared to other Alpha Omega CRS without tether separation under dynamic loading. Therefore, DJG filed this petition on the basis that the noncompliance is inconsequential to motor vehicle safety.

The agency has reviewed DJG's application and concluded that the noncompliance is not inconsequential to motor vehicle safety for the following reasons.

First, even though the Alpha Omega CRS met other dynamic test requirements, it did not meet S5.1.1(a) when the tether strap separated from the CRS. The agency has consistently viewed tether strap separation as a load bearing structural failure.

Second, structural failure is similar to vehicle LATCH anchorage failure—a failure of either one causes a child seat to be restrained improperly.

Finally, the agency has taken enforcement action for a similar failure. In 2001, the agency notified Britax Child Safety, Inc (Britax), of a potential noncompliance due to the detachment of a tether strap during dynamic testing of one of its child restraint models. Britax initiated a recall campaign to provide owners of the affected model with repair kits.

In consideration of the foregoing, NHTSA has decided that DJG has not met its burden of persuasion that the noncompliance it describes is inconsequential to motor vehicle safety. Accordingly, DJG's application is hereby denied. Therefore, DJG must fulfill its obligation to notify and remedy under 49 U.S.C. 30118(d) and 30120(h).

Authority: 49 U.S.C. 30118(d) and 30120(h); delegations of authority at 49 CFR 1.50 and 49 CFR 501.8)

Issued on: July 22, 2003.
Roger A. Saul,
Director, Office of Crashworthiness Standards.

[FR Doc. 03-19152 Filed 7-25-03; 8:45 am]

BILLING CODE 4910-59-P